DEPARTMENT OF EDUCATION

Privacy Act of 1974; System of Records

AGENCY: Program and Analytic Studies, Policy and Program Studies Service, Department of Education.

ACTION: Notice of a New System of Records.

SUMMARY: In accordance with the Privacy Act of 1974, as amended (Privacy Act), 5 United States Code (U.S.C.) 552a, the Department of Education (Department) publishes this notice of a new system of records entitled “Follow Up Evaluation of the Gear Up Program (18-17-02).” This system will contain information about middle school students who participated in the GEAR UP program in 2000-01 and a matched comparison of middle school students who did not participate in the program. The students' expected high school completion year is 2006 and the follow-up information will be collected in spring of 2006. This system consists of the name, address, and social security number of the study participants as well as demographic information such race/ethnicity and age; educational background, transcript information, service participation information, high school graduation, and preliminary postsecondary enrollment information; and financial aid application and award. The information will be collected from students and their parents.

The Department seeks comment on this new system of records described in this notice, in accordance with the requirements of the Privacy Act.

DATES: We must receive your comments on the proposed routine uses for this system of records on or before January 17, 2006.

The Department filed a report describing the new system of records covered by this notice with the Chair of the Senate Committee on Homeland Security and Governmental Affairs, the Chair of the House Committee on Government Reform, and the Administrator of the Office of Information and Regulatory Affairs, Office of Management and Budget (OMB) on December 13, 2005. This system of records will become effective at the later date of—(1) the expiration of the 40-day period for OMB review on January 23, 2006 or (2) January 17, 2006, unless the system of records needs to be changed as a result of public comment or OMB review.

ADDRESSES: Address all comments about the proposed routine uses of this system to Dr. David Goodwin, Director, Program and Analytic Studies Division, Policy and Program Studies Service, U.S. Department of Education, 400 Maryland Avenue, SW., room 6W231, Washington, DC 20202. Telephone: (202) 401-3630.

If you prefer to send your comments through the Internet, use the following address: Comments@ed.gov.

You must include the term “Follow Up Evaluation of the Gear Up Program.” in the subject line of the electronic message.

During and after the comment period, you may inspect all comments about this notice in room 6W200, 400 Maryland Avenue, SW., Washington, DC, between the hours of 8 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice.

If you want to schedule an appointment for this type of aid, please contact the person listed under FOR FURTHER INFORMATION CONTACT.

FOR FURTHER INFORMATION CONTACT: Dr. David Goodwin. Telephone: (202) 401-3630. If you use a telecommunications device for the deaf (TDD), you may call the Federal Relay Service (FRS) at 1-800-877-8339.

Individuals with disabilities may obtain this document in an alternative format (e.g., Braille, large print, audiotape, or computer diskette) on request to the contact person listed in the preceding paragraph.

SUPPLEMENTARY INFORMATION:

Introduction

The Privacy Act requires the Department to publish in the Federal Register this notice of a new system of records maintained by the Department. The Department's regulations implementing the Privacy Act are contained in the Code of Federal Regulations (CFR) in 34 CFR part 5b.

The Privacy Act applies to a record about an individual that is maintained in a system of records from which information is retrieved by a unique identifier associated with each individual, such as a name or social security number. The information about each individual is called a “record” and the system, whether manual or computer-driven, is called a “system of records.” The Privacy Act requires each agency to publish a system of records notice in the Federal Register and to prepare reports to OMB and congressional committees whenever the agency publishes a new system of records.

Electronic Access to This Document

You may view this document, as well as all other documents of this Department published in the Federal Register, in text or Adobe Portable Document Format (PDF) on the Internet at the following site: www.ed.gov/news.fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: December 13, 2005.
Tom Luce,
Assistant Secretary for Planning, Evaluation, and Policy Development.

For the reasons discussed in the preamble, the Director, Policy and Program Studies Service, U.S. Department of Education, publishes a notice of a new system of records to read as follows:

18-17-02

SYSTEM NAME:

“Follow Up Evaluation of the Gear Up Program”.

SECURITY CLASSIFICATION:

None.

SYSTEM LOCATION:

Program and Analytic Studies Division, Policy and Program Studies Service, U.S. Department of Education, 400 Maryland Avenue, SW., Room 6W231, Washington, DC 20202.

CATEGORIES OF INDIVIDUALS COVERED BY THE SYSTEM:

This system contains records on middle school students who participated in the GEAR UP program in 2000-01 and a comparison group of non-participants from schools matched on socio-demographic characteristics.

CATEGORIES OF RECORDS IN THE SYSTEM:

This system consists of the name, address, and social security number of the study participants as well as demographic information such as race/ethnicity and age; educational background, transcript information, service participation information, high school graduation, and preliminary postsecondary enrollment information; and financial aid application and award.

AUTHORITY FOR MAINTENANCE OF THE SYSTEM:

20 U.S.C. 1070a-27.

PURPOSE(S):

The information in this system is used for the following purposes: (1) to contribute to the legislatively mandated GEAR UP program evaluation; and (2) generally to identify the educational outcomes of study participants and the extent to which GEAR UP participation is associated with positive outcomes in comparison to the control group.

ROUTINE USES OF RECORDS MAINTAINED IN THE SYSTEM, INCLUDING CATEGORIES OF USERS AND THE PURPOSE OF SUCH USES:

ROUTINE USE COMPATIBILITY:

(1) Freedom Of Information Act (FOIA) Advice Disclosure. The Department may disclose records to the U.S. Department of Justice and the Office of Management and Budget (OMB) if the Department concludes that disclosure is desirable or necessary in determining whether the Freedom of Information Act (FOIA) requires particular records to be disclosed.

Under the FOIA, the public has a general right of access to Federal agency records, except to the extent that such records (or portions of them) are protected from disclosure by an exemption or an exclusion that is contained in the FOIA. This routine use is compatible with the purposes of this system in that the Department can disclose records to the agencies responsible for the litigation relating to and the interpretation of the FOIA. These agencies can assist the Department in determining whether the FOIA requires the disclosure of the records or whether the records are exempt from disclosure under the FOIA.

(2) Contract Disclosure. If the Department contracts with an entity for the purposes of performing any function that requires disclosure of records in this system to employees of the contractor, the Department may disclose the records to those employees. Before entering into such a contract, the Department must require the contractor to maintain Privacy Act safeguards as required under 5 U.S.C. 552a(m) with respect to the records in the system.

In the course of administering its programs, the Department may enter into contracts with entities that will perform functions for these programs. This routine use is compatible with the purposes of the system to which it applies in that it permits entities with which the Department contracts to receive the information needed to ensure that the program is administered efficiently.

(3) Research Disclosure. The Department may disclose records to a researcher if an appropriate official of the Department determines that the individual or organization to which the disclosure would be made is qualified to carry out specific research related to functions or purposes of a system of records to which this routine use applies. The official may disclose records from this system of records to that researcher solely for the purpose of carrying out that research related to the functions or purposes of the system of records. The researcher must maintain Privacy Act safeguards with respect to the disclosed records. This routine use is compatible with the purpose of this system of records because it permits the Department to disclose records to researchers so that the Department can improve the management of the system and contribute to advancing knowledge regarding the purposes and objective of the program served by the system.

POLICIES AND PRACTICES FOR STORING, RETRIEVING, ACCESSING, RETAINING, AND DISPOSING OF RECORDS IN THE SYSTEM:

STORAGE:

Records are on a computer database as well as in hard copy.

RETRIEVABILITY:

The records in this system are indexed by the name of the individual and/or a number assigned to each individual.

SAFEGUARDS:

All physical access to the Department's site, and the sites of Department contractors where this system of records is maintained, is controlled and monitored by security personnel. The computer system employed by the Department offers a high degree of resistance to tampering and circumvention. This security system limits data access to Department and contract staff on a “need to know” basis, and controls individual users' ability to access and alter records within the system. The contractor, Westat, has established a set of procedures to ensure confidentiality of data. The system ensures that information identifying individuals is in files physically separated from other research data. Westat will maintain security of the complete set of all master data files and documentation. Access to individually identifiable data will be strictly controlled. All data will be kept in locked file cabinets during nonworking hours, and work on hardcopy data will take place in a single room, except for data entry. Physical security of electronic data will also be maintained. Security features that protect project data include password-protected accounts that authorize users to use the Westat system but to access only specific network directories and network software; user rights and directory and file attributes that limit those who can use particular directories and files and determine how they can use them; e-mail passwords that authorize the user to access mail services; and additional security features that the network administrator establishes for projects as needed.

RETENTION AND DISPOSAL:

Records are maintained and disposed of in accordance with the Department's ED/RDS Part 3, Items 1, 2 or 3. Design, implementation, and final reports of the study are permanent records. They are maintained by the Department for 10 years, and then transferred to the National Archives and Records Administration. Administrative records of the study are destroyed 2 years after completion of the project.

SYSTEM MANAGER AND ADDRESS:

Director, Program and Analytic Studies Division, Policy and Program Studies Service, U.S. Department of Education, 400 Maryland Avenue, SW., room 6W231, Washington, DC 20202.

NOTIFICATION PROCEDURE:

If you wish to determine whether a record exists regarding you in the system of records, contact the system manager. Your request must meet the requirements of the Department's Privacy Act regulations in 34 CFR 5b.5, including proof of identity.

RECORD ACCESS PROCEDURE:

If you wish to gain access to a record regarding you in the system of records, contact the system manager. Your request must meet the requirements of the Department's Privacy Act regulations in 34 CFR 5b.5, including proof of identity.

CONTESTING RECORD PROCEDURE:

If you wish to contest the content of a record regarding you in the system of records, contact the system manager. Your request must meet the requirements of the Department's Privacy Act regulations in 34 CFR 5b.7, including proof of identity.

RECORD SOURCE CATEGORIES:

Information in this system is obtained from surveys with students who were in middle school in 2000-01 and who participated in the GEAR UP program and from a comparison group of students. Students are to be surveyed in spring 2006 when normal progression would make them seniors in high school. Surveys are being conducted as a source of providing information.

EXEMPTIONS CLAIMED FOR THE SYSTEM:

None.

[FR Doc. E5-7464 Filed 12-15-05; 8:45 am]

BILLING CODE 4000-01-P